DEPARTMENT OF ENERGY

Federal Energy Regulatory Commission

[Project No. 2157-190]

Public Utility District No. 1 of Snohomish County, WA; City of Everett, WA; Notice of Application To Amend Recreation Plan and Soliciting Comments, Motions To Intervene, and Protests

January 22, 2010.

Take notice that the following hydroelectric application has been filed with the Commission and is available for public inspection:

a. Application Type: Amendment of License.

b. Project No: 2157-190.

c. Date Filed: December 7, 2009.

d. Applicant: Public Utility District No. 1 of Snohomish County, Washington and City of Everett, Washington.

e. Name of Project: Henry M. Jackson Hydroelectric Project.

f. Location: The project is located on Sulton River, in Snohomish County, Washington. This project occupies approximately 1,939 acres of Federal lands administered by the U.S. Forest Service.

g. Filed Pursuant to: Federal Power Act, 16 U.S.C. 791(a)-825(r).

h. Applicant Contact: Anne Spangler, Public Utility District No. 1 of Snohomish County, Washington, 2320 California Street, P.O. Box 1107, Everett, WA 98206, (425) 783-1000.

i. FERC Contact: Any questions on this notice should be addressed to Jade Alvey at (202) 502-6864, or by e-mail: jade.alvey@ferc.gov.

j. Deadline for filing comments and/or motions: February 22, 2010.

All documents (original and eight copies) should be filed with: The Secretary, Federal Energy Regulatory Commission, 888 First Street, NE., Washington, DC 20426. Please include the project number (P-2157-190) on any comments or motions filed.

The Commission's Rules of Practice require all interveners filing documents with the Commission to serve a copy of that document on each person on the official service list for the project. Further, if an intervener files comments or documents with the Commission relating to the merits of an issue that may affect the responsibilities of a particular resource agency, they must also serve a copy of the document on that resource agency. A copy of any motion to intervene must also be served upon each representative of the Applicant specified in the particular application.

k. Description of Proposal: Public Utility District No. 1 of Snohomish County, Washington (PUD), with the support from the City of Everett, Washington, filed an application to amend the recreation plan (plan) for the Henry M. Jackson Hydroelectric Project. The amendment request pertains to changes and improvements to the Nighthawk and Bear Creek recreation sites at the project, currently being contemplated as part of the relicensing process. Due to the scheduled 2011 closure of 3.1 miles of South Shore Road by the Washington Department of Natural Resources, PUD is requesting an amendment to the plan in order to complete construction work at these sites prior to the closure.

l. Locations of the Application: A copy of the application is available for inspection and reproduction at the Commission's Public Reference Room, located at 888 First Street, NE., Room 2A, Washington, DC 20426, or by calling (202) 502-8371. This filing may also be viewed on the Commission's Web site at http://www.ferc.gov using the “eLibrary” link. Enter the docket number excluding the last three digits in the docket number field to access the document. You may also register online at http://www.ferc.gov/docs-filing/esubscription.asp to be notified via e-mail of new filings and issuances related to this or other pending projects. For assistance, call 1-866-208-3372 or e-mail FERCOnlineSupport@ferc.gov; for TTY, call (202) 502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Any filings must bear in all capital letters the title “COMMENTS”, “PROTEST”, or “MOTION TO INTERVENE”, as applicable, and the Project Number of the particular application to which the filing refers.

p. Agency Comments: Federal, State, and local agencies are invited to file comments on the described application. A copy of the application may be obtained by agencies directly from the Applicant. If an agency does not file comments within the time specified for filing comments, it will be presumed to have no comments. One copy of an agency's comments must also be sent to the Applicant's representatives.

q. Comments, protests and interventions may be filed electronically via the Internet in lieu of paper. See, 18 CFR 385.2001(a)(1)(iii) and the instructions on the Commission's Web site at http://www.ferc.gov under the “e-Filing” link.

Kimberly D. Bose,
Secretary.

[FR Doc. 2010-1986 Filed 1-29-10; 8:45 am]

BILLING CODE 6717-01-P